DEPARTMENT OF ENERGY

Federal Energy Regulatory Commission

[Project No. 14286-001]

Haiwee Ridge Pumped Storage Project; Notice of Application for Amendment of Preliminary Permit Accepted for Filing and Soliciting Comments, Motions To Intervene, and Protests

On July 2, 2014, Gridflex Energy, LLC on behalf of Haiwee Ridge Hydro, LLC (permitee), filed an amendment to its preliminary permit issued on March 23, 2012,¹ for the proposed Haiwee Ridge Pumped Storage Project No. 14286 (project) to be located on the South Haiwee reservoir, near the Town of Olancha, Inyo County, California.² The project would be located almost entirely on land managed by the Bureau of Land Management (BLM).

¹ 138 FERC ¶ 62,298.

² On July 15, 2014, Gridflex Energy, LLC, on behalf of Haiwee Ridge Hydro, LLC, filed a correction to the July 2, 2014 application to amend the preliminary permit for the Haiwee Ridge Pumped Storage Project.

The preliminary permit issued on March 23, 2012, was issued to the permittee to maintain priority of application for a license during the term of the permit while the permittee conducts investigations and secures data necessary to determine the feasibility of the proposed project and the alternatives it considers. Each of following alternatives considered would consist of a project with a total installed capacity of 500 megawatts (MW):

South Haiwee Alternative A: (1) An upper reservoir formed by a 160-foot-high by 2,270-foot-long, roller-compacted concrete (RCC) dam, two saddle dams (a 35-foot-high by 680-foot-long RCC dam and a 65-foot-high by 680-foot-long RCC dam) having a total storage capacity of 15,100 acre-feet and a water surface area of 175 acres at full pool elevation of 5,050 feet msl; (2) a lower reservoir formed by the 81-foot-high by 1,555-foot-long potentially rebuilt South Haiwee dam having a total storage capacity of 46,600 acre-feet and a water surface area of 660 acres at full pool elevation of 3,756 feet msl; (3) approximately 13,150 feet of conduit connecting the upper to the lower reservoir in three different sections: A 3,000-foot-long by 18.5-foot-diameter, concrete-lined low-pressure tunnel, a 7,850-foot-long by 18.5-foot-diameter concrete-lined pressure shaft, and a 2,300-foot-long by 22.2-foot diameter tailrace; and (4) an underground powerhouse located roughly 1,500 feet east of South Haiwee reservoir at an elevation of 3,600 feet msl.

South Haiwee Alternative B: (1) An upper reservoir formed by a 210-foot-high by 1,320-foot-long, RCC dam and a 25-foot-high by 800-foot-long RCC saddle dam having a total storage capacity of 14,235 acre-feet and a water surface area of 241 acres at full pool elevation of 5,000 feet msl; (2) a lower reservoir formed by the 91-foot-high by 1,523-foot-long potentially rebuilt South Haiwee dam having a total storage capacity of 46,600 acre-feet and a water surface area of 800 acres at full pool elevation of 3,756 feet msl; (3) approximately 14,700 feet of conduit connecting the upper to the lower reservoir in three different sections: A 5,100-foot-long by 18.9-foot-diameter, concrete-lined low-pressure tunnel, a 5,600-foot-long by 18.9-foot-diameter concrete-lined pressure shaft, and a 4,000-foot-long by 22.7-foot diameter tailrace; and (4) an underground powerhouse located roughly 3,300 feet southeast of South Haiwee reservoir at an elevation of 3,580 feet msl.

New Reservoir Alternative: (1) An upper reservoir formed by a 210-foot-high by 1,320-foot-long, RCC dam having a total storage capacity of 14,235 acre-feet and a water surface area of 241 acres at full pool elevation of 5,000 feet msl; (2) a lower reservoir formed by a 60-foot-high by 10,600-foot-long RCC dam having a total storage capacity of 46,600 acre-feet and a water surface area of 800 acres at full pool elevation of 3,756 feet above msl; (3) approximately 12,500 feet of conduit connecting the upper to the lower reservoir in three different sections: A 3,750-foot-long by 17.5-foot-diameter, concrete-lined low-pressure tunnel, a 6,300-foot-long by 17.5-foot-diameter concrete-lined pressure shaft, and a 2,500-foot-long by 21-foot diameter tailrace; and (4) an underground located roughly 8,500 feet southwest of South Haiwee reservoir at an elevation of 3,400 feet msl.

As a result of preliminary investigations, the permittee now proposes to make the following changes to their issued permit: (1) Eliminate the lower reservoir from the New Reservoir Alternative (item 2 in the previous paragraph); (2) change the total installed capacity of Alternative B from 500 MW to 250 MW; and (3) adjust the project boundary to remove the lands associated with the lower reservoir of the New Reservoir Alternative and to include additional federal lands, managed by the BLM, necessary for the proposed project.

Applicant Contact: Mr. Matthew Shapiro, Haiwee Ridge Hydro, LLC., 1210 W. Franklin St., Ste. 2, Boise, ID 83702; phone (208) 246-9925.

FERC Contact: Kenneth Hogan, 202-502-8434 or via email at: Kenneth.Hogan@ferc.gov.

Deadline for filing comments, motions to intervene: 60 days from the issuance of this notice.

The Commission strongly encourages electronic filing. Please file comments and motions to intervene using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14286-001.

More information about this project, including a copy of the amendment application, can be viewed or printed on the “eLibrary” link of Commission's Web site at http://www.ferc.gov/docs-filing/elibrary.asp. Enter the docket number (P-14286) in the docket number field to access the document. For assistance, contact FERC Online Support.

Dated: July 25, 2014.
Kimberly D. Bose,
Secretary.

[FR Doc. 2014-18044 Filed 7-30-14; 8:45 am]

BILLING CODE 6717-01-P